DEPARTMENT OF EDUCATION

Student Assistance General Provisions

AGENCY: Department of Education.

ACTION: Notice of implementation of electronic delivery of school cohort default rate data for institutions located in the United States.

SUMMARY: The Secretary gives notice of the implementation of electronic delivery of cohort default rate notification packages to institutions located in the United States (domestic institutions) that participate in the Federal student aid programs authorized under Title IV of the Higher Education Act of 1965, as amended. This notice concerns electronic processes related to cohort default rates calculated for institutions participating in the Federal Family Education Loan (FFEL) Program, the William D. Ford Federal Direct Loan (Direct Loan) Program, or both. It does not apply to cohort default rates calculated for the Federal Perkins Loan Program.

Domestic schools must participate in this new electronic process by June 1, 2003. After that date, and except in the case of a technical problem caused by the U.S. Department of Education (Department) as described below, the electronic process will be the sole means by which the Secretary provides notice to domestic schools of their draft and official cohort default rates and underlying data. While participation in the electronic process by domestic schools is mandatory as of June 1, 2003, we will begin electronic distribution of cohort default rate notifications with the fiscal year (FY) 2001 draft rates in February 2003, for schools that by then have registered for the new service, as described below.

FOR FURTHER INFORMATION CONTACT: Kriste Jordan, Default Management, Schools Channel, Federal Student Aid, U.S. Department of Education, Union Center Plaza, 084B4, 830 First Street, Washington, DC 20002. Telephone: (202) 377-3191, FAX (202) 275-4511.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

SUPPLEMENTARY INFORMATION: Beginning with the release of fiscal year (FY) 2001 draft cohort default rates in February 2003, we will electronically transmit draft and official cohort default rate notification packages to domestic institutions using our Student Aid Internet Gateway (SAIG). The electronic delivery of cohort default rate information to domestic institutions will replace the current process, which involves delivery of hardcopy documents. Foreign schools (i.e., schools eligible to participate in the Federal Family Education Loan Program under section 102(a)(1)(C) of the Higher Education Act of 1965, as amended) are not subject to participation in this electronic process. Foreign schools will continue to receive their cohort default rate notification documents in hardcopy rather than electronically. Foreign schools' rights to appeal, make challenges and seek adjustments will continue to run from the date of receipt of the hardcopy, as they have in the past.

For each electronic distribution of default rate notifications (draft and official) to domestic institutions, we will announce on our Information for Financial Aid Professionals (IFAP) Web site (http://www.ifap.ed.gov) the date of the electronic transmission of cohort default rate information to the destination points designated by each domestic institution. Except as described in the following paragraph, the time periods for making appeals and challenges and seeking adjustments under 34 CFR part 668, subpart M will begin with the sixth business day after the date the default rate notification packages were transmitted to the SAIG destination points, as noted in the IFAP announcement.

If an institution believes that a technical problem that was caused by the U.S. Department of Education (Department) resulted in the institution not being able to access its electronic cohort default rate information, it must notify us no later than five business days after the transmission date announced on IFAP. By doing so and if we agree that the problem was caused by the Department, we will extend the challenge, appeal, and adjustment deadlines and timeframes to account for a re-transmission of the information after the technical problem is resolved. Reports of technical problems must be made via e-mail and addressed to our Default Management sharepost at: fsa.schools.default.management@­ed.gov.

Each institution is responsible for updating its SAIG enrollment whenever a change is needed to its cohort default rate notification package destination point. Failure of an institution to enroll in or update SAIG for the eCDR process does not constitute a valid, timely technical problem that would extend timeframes or deadlines for appeals, challenges, and adjustments.

To implement the electronic process, every domestic school must, no later than June 1, 2003, designate an SAIG destination point that will receive the institution's electronic cohort default rate (eCDR) notification packages. The designation of the eCDR destination point must be conducted through the SAIG enrollment process at: http://www.sfawebenroll.ed.gov.

In addition, before eCDR functionality can be provided to the designated SAIG destination point each institution must submit, by June 1, 2003, a hardcopy SAIG signature page signed by the institution's Chief Executive Officer (CEO) (e.g., President, Chancellor, Owner) or the person previously designated by the CEO as the institution's SAIG signature authority.

Once SAIG enrollment is completed, the institution's designee will receive electronic school cohort default rate notification packages unless the school changes the designee by submitting a revision to its SAIG enrollment.

Electronic Access to This Document

You may view this document, as well as all other Department of Education documents published in the Federal Register, in text or Adobe Portable Document Format (PDF) on the Internet at the following site: http://www.ed.gov/legislation/FedRegister.

To use the PDF you must have the Adobe Acrobat Reader, which is available free at this site. If you have questions about using the PDF, call the U.S. Government Printing Office (GPO); toll free, at 1-888-293-6498; or in the Washington, DC area at (202) 512-1530.

You may also view this document in PDF at the following site: ifap.ed.gov.

Note: The official version of this document is the document published in the Federal Register. Free Internet access to the official edition of the Federal Register and the Code of Federal Regulations is available on GPO Access at: http://www.access.gpo.gov/nara/index.html.

Program Authority: 20 U.S.C. 1085, 1094, 1099c.
Dated: February 20, 2003.
Sally L. Stroup,
Assistant Secretary, Office of Postsecondary Education.

[FR Doc. 03-4392 Filed 2-24-03; 8:45 am]

BILLING CODE 4000-01-P